ENVIRONMENTAL PROTECTION AGENCY

40 CFR Part 70

[Petition IV-2002-1; FRL-7552-6]

Clean Air Act Operating Permit Program; Petition for Partial Objection and Partial Granting to State Operating Permits for TVA John Sevier Fossil Plant, Rogersville, TN and TVA Kingston Fossil Plant, Harriman, TN

AGENCY: Environmental Protection Agency (EPA).

ACTION: Notice of final order on petition to partially object and partially grant to a state operating permit.

SUMMARY: Pursuant to Clean Air Act section 505(b)(2) and 40 CFR 70.8(d), the EPA Administrator signed an order, dated July 2, 2003, partially denying and partially granting a petition to object to a state operating permit issued by the Tennessee Department of Environment and Conservation (TDEC) to the TVA John Sevier Fossil Plant located in Rogersville, Hawkins County, Tennessee and the TVA Kingston Fossil Plant located in Harriman, Roane County, Tennessee. This order constitutes final action on the petition submitted by attorney Reed Zars on behalf of the National Parks Conservation Association (Petitioner). Pursuant to section 505(b)(2) of the Clean Air Act (the Act) judicial review of this action is available to the extent the petition has been denied by the filing of a petition for review in the United States Court of Appeals for the appropriate circuit within 60 days of this notice under section 307 of the Act.

ADDRESSES: Copies of the final order, the petition, and all pertinent information relating thereto are on file at the following location: EPA Region 4, Air, Pesticides and Toxics Management Division, 61 Forsyth Street, SW., Atlanta, Georgia 30303-8960. The final order is also available electronically at the following address:

FOR FURTHER INFORMATION CONTACT: Daphne Wilson, Air Permits Section, EPA Region 4, at (404) 562-9098 or wilson.daphne@epa.gov.

SUPPLEMENTARY INFORMATION: The Act affords EPA a 45-day period to review and, as appropriate, to object to operating permits proposed by state permitting authorities under Title V of the Act, 42 U.S.C. 7661-7661f. Section 505(b)(2) of the Act and 40 CFR 70.8(d) authorize any person to petition the EPA Administrator to object to a Title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Reed Zars submitted a petition on behalf of the National Parks Conservation Association to the Administrator on November 18, 2002, requesting that EPA object to a state Title V operating permit issued by TDEC to TVA John Sevier Fossil Plant and Kingston Fossil Plant. The Petitioner maintains that the TVA permit is inconsistent with the Act because: (1) The permit condition fails to ensure compliance with the applicable opacity limits; (2) TDEC improperly shields the source from its requirement to independently certify compliance; (3) TDEC does not have the ability to make changes to the SIP without EPA approval.

On July 2, 2003, the Administrator issued an order partially denying and partially granting this petition. The order explains the reasons behind EPA's conclusion that the petitioner has demonstrated cause to reopen the permits based on the first and second issues. The order also explains the reason for denying the remaining claim.

Dated: August 25, 2003.
J.I. Palmer, Jr.,
Regional Administrator, Region 4.

[FR Doc. 03-22545 Filed 9-3-03; 8:45 am]

BILLING CODE 6560-50-P